DEPARTMENT OF COMMERCE

Foreign-Trade Zones Board

[B-14-2018]

Foreign-Trade Zone (FTZ) 158—Vicksburg/Jackson, Mississippi, Notification of Proposed Production Activity, International Converter, (Insulation Facer), Iuka, Mississippi

International Converter (IC) submitted a notification of proposed production activity to the FTZ Board for its facility in Iuka, Mississippi. The notification conforming to the requirements of the regulations of the FTZ Board (15 CFR 400.22) was received on February 23, 2018.

The applicant indicates that it will be submitting a separate application for FTZ designation at the IC facility under FTZ 158. The facility is used for the production of insulation facer using a wet-bond or dry-bond lamination process. Pursuant to 15 CFR 400.14(b), FTZ activity would be limited to the specific foreign-status materials/components and specific finished products described in the submitted notification (as described below) and subsequently authorized by the FTZ Board.

Production under FTZ procedures could exempt IC from customs duty payments on the foreign-status materials/components used in export production. For foreign-status components subject to antidumping/countervailing duty (AD/CVD) investigations/orders, the applicant only requests authority to use such components in the company's export production. On its domestic sales, for the foreign-status materials/components noted below not subject to AD/CVD orders/investigations, IC would be able to choose the duty rates during customs entry procedures that apply to: Printed duplex insulation facer consisting of paper backed with aluminum foil; not printed duplex insulation facer consisting of paper backed with aluminum foil; printed triplex insulation facer, consisting of paper with aluminum foil on either side; not printed triplex insulation facer, consisting of paper with aluminum foil on either side; printed quadlaminate insulation facer, consisting of paper with aluminum foil on either side, and fabric scrim on one outer layer; and, not printed quadlaminate insulation facer, consisting of paper with aluminum foil on either side, and fabric scrim on one outer layer (duty rate ranges from duty-free to 3.7%). IC has indicated that all scrap/waste from the lamination process would be exported. Customs duties also could possibly be deferred or reduced on foreign-status production equipment.

The materials/components sourced from abroad include: Aluminum foil in rolls, 0.00025 inches thick; aluminum foil in rolls, 0.00027 inches thick; aluminum foil in rolls, 0.000285 inches thick; and, nonwoven polyethylene terephthalate scrim fabric, in rolls, 33.84 grams per square meter (duty rate ranges from duty-free to 5.8%). The request indicates that the aluminum foil is subject to AD and CVD investigations if imported from a certain country. The FTZ Board's regulations (15 CFR 400.14(e)) require that merchandise subject to AD/CVD orders, or items which would be otherwise subject to suspension of liquidation under AD/CVD procedures if they entered U.S. customs territory, be admitted to the zone in privileged foreign status (19 CFR 146.41). As noted above, the request indicates that any aluminum foil subject to an AD/CVD investigation/order would be used only in production for export.

Public comment is invited from interested parties. Submissions shall be addressed to the Board's Executive Secretary at the address below. The closing period for their receipt is April 11, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: February 27, 2018.
Andrew McGilvray,
Executive Secretary.

[FR Doc. 2018-04290 Filed 3-1-18; 8:45 am]

BILLING CODE 3510-DS-P